DEPARTMENT OF EDUCATION

National Board for Education Sciences

AGENCY: Institute of Education Sciences, U.S. Department of Education.

ACTION: Announcement of an open meeting.

SUMMARY: This notice sets forth the schedule and proposed agenda of an upcoming meeting of the National Board for Education Sciences (NBES). The notice also describes the functions of the Committee. Notice of this meeting is required by Section 10(a) (2) of the Federal Advisory Committee Act and is intended to notify the public of their opportunity to attend the meeting.

DATES: The NBES meeting will be held on October 30, 2014, from 9:00 a.m. to 3:30 p.m. Eastern Standard Time.

ADDRESSES: 80 F Street NW., Large Board Room, Washington, DC 20001

FOR FURTHER INFORMATION CONTACT: Ellie Pelaez, Designated Federal Official, NBES, U.S. Department of Education, 555 New Jersey Avenue NW., Room 600 E, Washington, DC 20208; phone: (202) 219-0644; fax: (202) 219-1402; email: Ellie.Pelaez@ed.gov.

SUPPLEMENTARY INFORMATION: NBES' Statutory Authority and Function: The National Board for Education Sciences is authorized by Section 116 of the Education Sciences Reform Act of 2002 (ESRA), 20 U.S.C. 9516. The Board advises the Director of the Institute of Education Sciences (IES) on, among other things, the establishment of activities to be supported by the Institute and the funding for applications for grants, contracts, and cooperative agreements for research after the completion of peer review. The Board also reviews and evaluates the work of the Institute.

Meeting Agenda: On October 30, 2014, starting at 9:00 a.m., the Board meeting will commence and members will approve the agenda. From 9:05 to 10:15 a.m., the Commissioners of IES's national centers will give an overview of recent developments at IES. This session will be followed by a question and answer period regarding the Commissioners' reports. A break will take place from 10:15 to 10:30 a.m.

The Board meeting will resume from 10:30 to 12:00 p.m. when the Board will discuss “Research on Educating African American Males.” NBES Chair David Chard and Thomas Brock, Commissioner of the National Center for Education Research (NCER), will provide the opening remarks, followed by a panel discussion with researchers studying specific interventions. Roundtable discussion by board members will take place after the panel discussion. The meeting will break for lunch from 12:00 to 1:00 p.m.

From 1:00 p.m. to 3:00 p.m., the Board will consider the topic, “Higher Education Rating System.” Following opening remarks by the Department of Education's Under Secretary Ted Mitchell, a roundtable discussion of the topic will take place.

Closing remarks from Sue Betka, Acting Director of IES, and David Chard, will take place from 3:00 p.m. to 3:30 p.m., with adjournment scheduled for 3:30 p.m.

Submission of comments regarding the Board's policy recommendations: There will not be an opportunity for public comment. However, members of the public are encouraged to submit written comments related to NBES to Ellie Pelaez (see contact information above). A final agenda is available from Ellie Pelaez (see contact information above) and is posted on the Board Web site http://ies.ed.gov/director/board/agendas/index.asp.

Access to Records of the Meeting: The Department will post the official report of the meeting on the NBES Web site no later than 90 days after the meeting. Pursuant to the FACA, the public may also inspect the materials at 555 New Jersey Avenue NW., 6th Floor, Washington, DC, by emailing Ellie.Pelaez@ed.gov or by calling (202) 219-0644 to schedule an appointment.

Reasonable Accommodations: The meeting site is accessible to individuals with disabilities. If you will need an auxiliary aid or service to participate in the meeting (e.g., interpreting service, assistive listening device, or materials in an alternate format), notify the contact person listed in this notice by or before October 23, 2014. Although we will attempt to meet a request received after October 23, 2014, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: Section 116 of the Education Sciences Reform Act of 2002 (ESRA), 20 U.S.C. 9516.

Sue Betka,
Acting Director, Institute of Education Science.

[FR Doc. 2014-23992 Filed 10-7-14; 8:45 am]

BILLING CODE 4000-01-P